DEPARTMENT OF THE TREASURY

Internal Revenue Service

26 CFR Part 1

[TD 9495]

RIN 1545-BC61

Qualified Zone Academy Bonds; Obligations of States and Political Subdivisions; Correction

AGENCY: Internal Revenue Service (IRS), Treasury.

ACTION: Correction to final regulations.

SUMMARY: This document contains a correction to final regulations (TD 9495) that were published in the Federal Register on Friday, July 30, 2010 (75 FR 44901) providing guidance to State and local governments that issue qualified zone academy bonds and to banks, insurance companies, and other taxpayers that hold those bonds on the program requirements for qualified zone academy bonds.

DATES: This correction is effective on August 25, 2010, and is applicable on July 30, 2010.

FOR FURTHER INFORMATION CONTACT: Zoran Stojanovic, (202) 622-3980 (not a toll-free number).

SUPPLEMENTARY INFORMATION:

Background

The final regulations (TD 9495) that are the subject of this document are under section 1397E of the Internal Revenue Code.

Need for Correction

As published, the final regulations (TD 9495) contain an error that may prove to be misleading and is in need of clarification.

Correction of Publication

Accordingly, the publication of the final regulations (TD 9495) which were the subject of FR Doc. 2010-18678, is corrected as follows:

On page 44903, column 1, in the preamble, under the paragraph heading “Effective/Applicability Dates”, lines 2 and 3 from the last paragraph of the column, the language “Act, effective for QZABs that are sold on or after October 3, 2008, section 1397E” is corrected to read “Act, effective for QZABs that are sold after October 3, 2008, section 1397E”.

LaNita Van Dyke,
Chief, Publications and Regulations Branch, Legal Processing Division, Associate Chief Counsel (Procedure and Administration).

[FR Doc. C1-2010-21046 Filed 8-24-10; 8:45 am]

BILLING CODE 4830-01-P